DEPARTMENT OF TRANSPORTATION

Federal Aviation Administration

14 CFR Part 39

[Docket No. 2000-NM-112-AD; Amendment 39-12010; AD 2000-24-03]

RIN 2120-AA64

Airworthiness Directives; Dornier Model 328-100 Series Airplanes

AGENCY: Federal Aviation Administration, DOT.

ACTION: Final rule.

SUMMARY: This amendment supersedes an existing airworthiness directive (AD), applicable to all Dornier Model 328-100 series airplanes, that currently requires revising the Airplane Flight Manual (AFM) to provide the flightcrew with additional information regarding procedures to ensure complete pressurization of the hydraulic lines for the flaps. This amendment requires revising the existing AFM revision to include a flap system test to be performed prior to the first flight of the day. This amendment also requires, for certain airplanes, modification of the flap actuators of the flight controls. The actions specified by this AD are intended to prevent an uncommanded retraction of the flaps during takeoff, which could result in an aborted takeoff and consequent potential for runway overrun.

DATES: Effective January 8, 2001.

The incorporation by reference of certain publications, as listed in the regulations, is approved by the Director of the Federal Register as of January 8, 2001.

The incorporation by reference of Dornier 328 All Operators Telefax AOT-328-27-016, dated July 31, 1998, as listed in the regulations, was approved previously by the Director of the Federal Register as of November 12, 1998 (63 FR 57244, October 27, 1998).

ADDRESSES: The service information referenced in this AD may be obtained from FAIRCHILD DORNIER, DORNIER Luftfahrt GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 98-22-07, amendment 39-10854 (63 FR 57244, October 27, 1998), which is applicable to all Dornier Model 328-100 series airplanes, was published in the Federal Register on August 29, 2000 (65 FR 52365). The action proposed to continue to require revising the Airplane Flight Manual (AFM) to provide the flightcrew with additional information regarding procedures to ensure complete pressurization of the hydraulic lines for the flaps. The action also proposed to require revising the existing AFM revision to include a flap system test to be performed prior to the first flight of the day. Additionally, the action proposed to add a requirement, for certain airplanes, for modification of the flap actuators of the flight controls.

Comments

Interested persons have been afforded an opportunity to participate in the making of this amendment. No comments were submitted in response to the proposal or the FAA's determination of the cost to the public.

Conclusion

The FAA has determined that air safety and the public interest require the adoption of the rule as proposed.

Cost Impact

There are approximately 52 airplanes of U.S. registry that will be affected by this AD.

The AFM revision that is currently required by AD 98-22-07, and retained in this AD, takes approximately 1 work hour per airplane to accomplish, at an average labor rate of $60 per work hour. Based on these figures, the cost impact of the currently required actions on U.S. operators is approximately $3,120, or $60 per airplane.

The new AFM revision that is required by this AD will take approximately 1 work hour per airplane to accomplish, at an average labor rate of $60 per work hour. Based on these figures, the cost impact of the required AFM revision on U.S. operators is estimated to be $3,120, or $60 per airplane.

The new modification that is required by this AD will take approximately 4 work hours per airplane to accomplish, at an average labor rate of $60 per work hour. Required parts will be provided by the manufacturer at no cost to the operators. Based on these figures, the cost impact of the required modification on U.S. operators is estimated to be $240 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10854 (63 FR 57244, October 27, 1998), and by adding a new airworthiness directive (AD), amendment 39-12010, to read as follows:

2000-24-03 Dornier Luftfahrt GMBH: Amendment 39-12010. Docket 2000-NM-112-AD. Supersedes AD 98-22-07, Amendment 39-10854.

Applicability: All Model 328-100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent an uncommanded retraction of the flaps during takeoff, which could result in an aborted takeoff and consequent potential for runway overrun, accomplish the following:

Restatement of Requirements of AD 98-22-07

Airplane Flight Manual (AFM) Revision

(a) Within 14 days after November 12, 1998 (the effective date of AD 98-22-07, amendment 39-10854), accomplish the requirements of paragraphs (a)(1) and (a)(2) of this AD.

(1) Revise the Normal Procedures Section of the Dornier 328 FAA-approved AFM to include the information specified in pages 6 and 7 of Dornier 328 All Operators Telefax (AOT) AOT-328-27-016, dated July 31, 1998. This may be accomplished by inserting a copy of pages 6 and 7 of the AOT into the AFM.

(2) Revise the Abnormal Procedures Section of the Dornier 328 FAA-approved AFM to include the information specified in page 4 of Dornier 328 AOT-328-27-016, dated July 31, 1998. This may be accomplished by inserting a copy of page 4 of the AOT into the AFM.

New Requirements of This AD

New AFM Revision

(b) For all airplanes: Within 3 days after the effective date of this AD, revise the Dornier 328 FAA-approved AFM as specified in paragraphs (b)(1) and (b)(2) of this AD. Concurrent with this AFM revision, remove the AFM revisions required by paragraph (a) of this AD from the AFM.

(1) Revise the Normal Procedures Section to include the information specified in pages 4, 5, and 6 of Dornier 328 AOT-328-27-016, Revision 1, dated October 28, 1998. This may be accomplished by inserting a copy of pages 4, 5, and 6 of the AOT into the AFM.

(2) Revise the Abnormal Procedures Section to include the information specified in page 3 of Dornier 328 AOT-328-27-016, Revision 1, dated October 28, 1998. This may be accomplished by inserting a copy of page 3 of the AOT into the AFM.

Modification

(c) For airplanes with serial numbers 3005 through 3099 inclusive, 3101 through 3108 inclusive, and 3110 through 3119 inclusive: Within 5 months after the effective date of this AD, modify the flap actuators of the flight controls, in accordance with Dornier 328 Service Bulletin SB-328-27-293, dated November 10, 1999.

Note 2: The Dornier service bulletin references Liebherr Aerospace Service Bulletin 1048A-27-02, dated November 9, 1999, as an additional source of service information for accomplishing the modification of the flap actuators of the flight controls.

Alternative Methods of Compliance

(d)(1) An alternative method of compliance or adjustment of the compliance time that provides an acceptable level of safety may be used if approved by the Manager, Manager, International Branch, ANM-116, FAA, Transport Airplane Directorate. Operators shall submit their requests through an appropriate FAA Principal Maintenance Inspector, who may add comments and then send it to the Manager, International Branch, ANM-116.

(2) Alternative methods of compliance, approved previously in accordance with AD 98-22-07, amendment 39-10854, are approved as alternative methods of compliance with paragraph (a) of this AD.

Note 3: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraph (b) of this AD, the AFM revisions shall be done in accordance with Dornier 328 All Operators Telefax AOT-328-27-016, dated July 31, 1998; or Dornier 328 All Operators Telefax AOT-328-27-016, Revision 1, dated October 28, 1998. The modification shall be done in accordance with Dornier 328 Service Bulletin SB-328-27-293, dated November 10, 1999.

(1) The incorporation by reference of Dornier 328 All Operators Telefax AOT-328-27-016, Revision 1, dated October 28, 1998; and Dornier 328 Service Bulletin SB-328-27-293, dated November 10, 1999, is approved by the Director of the Federal Register in accordance with 5 U.S.C. 552(a) and 1 CFR part 51.

(2) The incorporation by reference of Dornier 328 All Operators Telefax AOT-328-27-016, dated July 31, 1998, was approved previously by the Director of the Federal Register as of November 12, 1998 (63 FR 57244, October 27, 1998).

(3) Copies may be obtained from FAIRCHILD DORNIER, DORNIER Luftfahrt GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 4: The subject of this AD is addressed in German airworthiness directive 1998-359/3, dated April 6, 2000.

Effective Date

(g) This amendment becomes effective on January 8, 2001.

Issued in Renton, Washington, on November 20, 2000.
Donald L. Riggin,
Acting Manager, Transport Airplane Directorate, Aircraft Certification Service.

[FR Doc. 00-30120 Filed 12-1-00; 8:45 am]

BILLING CODE 4910-13-P